NATIONAL AERONAUTICS AND SPACE ADMINISTRATION

[Notice 00-146]

NASA Advisory Council, Life and Microgravity Sciences and Applications Advisory Committee, Meeting

AGENCY: National Aeronautics and Space Administration.

ACTION: Notice of meeting.

SUMMARY: In accordance with the Federal Advisory Committee Act, Public Law 92-463, as amended, the National Aeronautics and Space Administration announces a meeting of the NASA Advisory Council, Life and Microgravity Sciences and Applications Advisory Committee.

DATES: Thursday, February 15, 2001, 10:00 a.m. to 5:00 p.m.; and Friday, February 16, 2001, 8:00 a.m. to 12:00 Noon.

ADDRESSES: National Aeronautics and Space Administration Headquarters, 300 E Street, SW, MIC-7, Room 7H46, Washington, DC 20546.

FOR FURTHER INFORMATION CONTACT: Dr. Stephen C. Davison, Code UG, National Aeronautics and Space Administration, Washington, DC 20546, 202/358-0647.

SUPPLEMENTARY INFORMATION: The meeting will be open to the public up to the seating capacity of the room. The agenda for the meeting is as follows:

—Action Status

—Office of Biological and Physical Research Strategic Plan and Advisory Committee Reorganization

—Education and Outreach Programs

—Biomedical Research and Crew Health

—Interagency Activities

—Radiation Health and Safety

—Commercial Space Center Activities

—ISS Non-Governmental Organization Status

—Code U ISS Research Plans

—Subcommittee Reports

—Discussion of Committee Findings and Recommendations

It is imperative that the meeting be held on this date to accommodate the scheduling priorities of the key participants. Visitors will be requested to sign a visitor's register.

Dated: December 19, 2000.
Beth M. McCormick,
Advisory Committee Management Officer, National Aeronautics and Space Administration.

[FR Doc. 00-32719 Filed 12-21-00; 8:45 am]

BILLING CODE 7510-01-P